DEPARTMENT OF TRANSPORTATION

Coast Guard

46 CFR Part 27

[USCG 1998-4445]

RIN 2115-AF66

Fire Protection Measures for Towing Vessels

AGENCY: Coast Guard, DOT.

ACTION: Final rule.

SUMMARY: This final rule makes a few changes to the fire-protection measures for towing vessels that were implemented by an interim rule in this rulemaking published on October 19, 1999. It makes them because of the public comments submitted in response to that rule. The changes clarify the requirements for fuel shut-off valves, fuel-tank vents, the design of fire-detection systems for engine rooms, and safety orientations.

DATES: Effective Date: This final rule is effective September 27, 2000.

ADDRESSES: The Docket Management Facility maintains the public docket for this rulemaking. Comments, and documents as indicated in this preamble will become part of this docket and will be available for inspection or copying at room PL-401 on the Plaza level of the Nassif Building at the same address between 9 a.m. and 5 p.m., Monday through Friday, except Federal holidays. You may also access this docket on the Internet at http://dms.dot.gov.

FOR FURTHER INFORMATION CONTACT: For questions on this rule, contact Randall Eberly, Office of Design and Engineering Standards (G-MSE), Coast Guard, telephone 202-267-1861, electronic mail Reberly@comdt.uscg.mil. For questions on viewing or submitting material to the docket, call Dorothy Beard, Chief, Dockets, Department of Transportation, telephone 202-366-9329.

SUPPLEMENTARY INFORMATION:

Background and Purpose

On January 19, 1996, the tugboat Scandia, with the tank barge North Cape in tow, caught fire five miles off the coast of Rhode Island. Crewmembers could not control the fire and, without power, they were unable to prevent the barge carrying 4 million gallons of oil from grounding and spilling about a quarter of its contents into the coastal waters. The North Cape spill led Congress to add, by § 902 of the 1996 Coast Guard Authorization Act [Pub. L. 104-324] (the Authorization Act), a new subsection, (f), to 46 U.S.C. 4102, to permit the Secretary of Transportation—“in consultation with the Towing Safety Advisory Committee” (TSAC)—to require fire-suppression measures on all towing vessels. We published a notice of proposed rulemaking (NPRM) on safety of towing vessels and tank barges [CGD 97-064] [RIN 2115-AF53] on October 6, 1997 (62 FR 52057). Afterward, we divided the rulemaking to address fire-suppression systems and fire-protection measures separately. We issued an interim rule [USCG 1998-4445] [RIN 2115-AF66] on October 19, 1999 64 FR 56257), to implement certain fire-protection measures for towing vessels. We plan to issue a supplemental notice of proposed rulemaking (SNPRM) on fire-suppression systems and voyage planning for towing vessels [USCG 2000-6931] [RIN 2115-AF53] later this year.

Statutory Mandate

Section 902 of the Authorization Act gave the Coast Guard the authority to require “the installation, maintenance, and use of a fire suppression system or other measures . . . on board towing vessels.” However, for vessels that tow non-self-propelled tank vessels, the Authorization Act did not just give the Coast Guard the authority; it mandated that the Coast Guard require these measures. The measures that the Coast Guard is requiring in this rule are based, in part, on recommendations from the TSAC.

Regulatory Approach

The interim rule prescribed that most towing vessels be fitted with—

• General alarms,

• Fire-detection systems for engine rooms,

• Internal-communication systems, and

• Remote fuel shut-off valves.

Furthermore, these vessels must conduct fire-fighting drills and establish training requirements for their crews. The rule exempted towing vessels that engage only in assistance towing, pollution response, or fleeting.

Requirement for a Fire-Suppression System

Neither the interim rule nor this final rule implements any requirements for fixed fire-suppression systems on towing vessels. A separate rulemaking, entitled “Fire-Suppression Systems and Voyage Planning for Towing Vessels”, addresses those systems.

In the NPRM, we proposed a combination of early-warning fire-detection systems, semi-portable fire extinguishers, fixed or portable fire pumps, and training of crews as alternative means of fire protection. During the comment period for the NPRM, we received numerous comments critical of these alternative measures. Many of the commenters stated that the measures did not meet the intent of the Authorization Act, because they would not require total-flooding fire-extinguishing systems. Further, the commenters stated that the measures did not consider vessels' characteristics, methods of operation, and nature of service, nor did they differentiate between ocean-going tugboats and inland towboats. We carefully considered these comments and decided to implement the lower-cost, non-controversial measures in an interim rule, separate from any requirements for fixed fire-extinguishing systems. This final rule makes a few changes to the interim rule for the non-controversial measures, based on public comments, as discussed below. Again, all requirements for fixed fire-extinguishing systems are the subjects of a separate rulemaking; this will take the form of a SNPRM on fire-suppression systems and voyage planning for towing vessels, which we will publish later this year.

Discussion of Comments and Changes

The Coast Guard received a total of 17 documents containing 95 comments to the public docket of the interim rule that precedes this final rule. The following paragraphs summarize the comments and explain the changes we have made to that interim rule.

1. Applicability and Exemptions

Three comments asked that the rule change to provide specific details that explain which types of harbor tugs and similar tugs operating within limited geographic areas are exempted from its requirements. We considered these comments and decided to make no change in that respect. 46 CFR 27.100 already clearly explains the reach of this rule. Besides, 46 CFR 27.100(c) permits the owner or operator of any vessel to request an exemption from the local Captain of the Port (COTP). The local COTP has the most accurate view of local conditions, so he or she is better suited to making a fair determination of the safety of a particular vessel.

2. Fixed Fire-Extinguishing System

Eight comments provided arguments both pro and con on the need for a fixed fire-extinguishing system for the protection of towing vessels' engine rooms. This issue is the subject of a separate rulemaking, the SNPRM on fire-suppression systems mentioned twice earlier. These comments, too, have not resulted in any changes to this final rule.

3. General Alarm

Several comments expressed the opinion that requiring weekly tests of a general alarm is excessive, and that such tests should be a part of the monthly fire drills. We disagree. The general alarm is an emergency safety system; as such, it must be functional at all times. Weekly testing of the alarm is consistent with our rules for inspected vessels and provides a high degree of confidence that the alarm will operate when needed.

4. Fire Detection

Numerous comments concerned § 27.210(f), which requires that the fire-detection system not be used for any other purpose. They stated that the rule should let the system be a part of the system for monitoring the engine room. We had received similar comments during the public comment period for the proposed rule. At that time, we had disagreed with the commenters. We had been concerned that the connection of non-emergency equipment to the fire-detection system could introduce a potential for spurious electrical faults that would decrease the reliability of the system. Because of this, the interim rule requires the fire-detection system to be approved by the Coast Guard or listed by an independent laboratory and not be part of any other system. Taking account of the added information received in response to the interim rule, we have re-considered our position on this issue.

The towing industry has informed us about systems for monitoring engine rooms and about their routine use. These systems, relied upon daily, ensure the operation of the vessel and its engines. They are therefore subject to enhanced maintenance and testing. If a spurious electrical fault were to occur in one, the operator would immediately be aware of it. If one became inoperable, prudent practice would dictate prompt repairs. Because of this, we hold the reliability of these systems adequate for their use in combination with fire-detection systems for engine rooms, as long as: (1) The equipment remains in good working order and (2) the fire detectors are approved for fire-protection service by an independent laboratory. Hence, we have framed the final rule to accept the continued use of existing fire-detection systems that are components of systems for monitoring engine rooms, provided that the detection systems also comply with 46 CFR 27.210(g).

Several other comments sought clarification of paragraph 46 CFR 27.210(d)(2), which requires that the control panel for the fire-detection system include a visible and audible alarm for each zone. The confusion arose over whether the paragraph requires both a separate visible alarm and a separate audible alarm for each zone. It was our intent to require a system that has a common audible alarm to notify the crew of any fire. If the system covers more than one zone, a series of indicator lights on the control panel will identify the zone of origin. This renders a separate audible alarm for each zone unnecessary. We agree that the wording of this requirement in the interim rule could have led to confusion. We have therefore changed the wording to preclude that.

Other comments sought clarification of the technical requirements of 46 CFR 27.210. We made no changes in response to these comments, which we summarize below:

46 CFR 27.210(e)—The requirement that the fire-detection system draw power from two sources. Several comments questioned the need for two separate sources of power. For reliability, such a system will have a backup source of power in case either the main generator fails or a break in the circuitry occurs. The system commonly achieves redundancy by switchover of the primary source to a small 12-volt battery located in the control panel. The comment observed that on a towing vessel the loss of primary power would be immediately noticed and corrected. We agree with this viewpoint; however, there may be instances when the vessel has primary power available to most parts of the vessel but when the branch of the electrical distribution system that supplies the alarm system is nonetheless unavailable. For such instances, it is necessary to provide an alternative supply of power from a battery to maintain detection capability.

46 CFR 27.210(g)—The requirement that the fire-detection system be certified to meet the rule by a professional engineer or a classification society. A number of comments questioned the reliance on an outside expert to certify the condition of the system. We called for this reliance to ensure that there is a thorough, knowledgeable, and professional review and inspection of the system. The Coast Guard does not routinely examine towing vessels. We feel that early warning of fire in the engine room is extremely important to the overall safety of such vessels. Because many such vessels already have installed systems, we decided to allow their continued use as long as they meet a minimum level of safety. This spares owners of vessels the expense of replacing their existing systems with new ones. Because we have decided to accept existing systems, we believe it essential that qualified persons evaluate the condition of the systems. Several comments insisted that marine electricians would be sufficiently competent to inspect and certify existing systems. We do not fully agree. We know of no training or certification for electricians that includes experience in the proper placement of fire detectors. Yet the installation of the detectors is crucial in the performance of the systems. For example, if the detectors are too close to ventilation outlets or too far beneath the overhead, they may never provide timely warning of fire. Because of the complexity of the guidelines for installing detectors, we have not weakened the requirement for certification.

46 CFR 27.210(d)(1)—The requirement for a power-available light. This part of the rule requires that a light on the control panel be illuminated whenever power is connected to the system. Some comments stated that the arrangement or function of this light needed explaining. We do not agree. The term “power-available light” is a common one, used throughout the fire-detection industry as well as elsewhere. It simply identifies a light on the control panel that indicates the presence of voltage at the point of connection to the system. We have not revised the wording of the rule.

5. Internal Communications

Several comments maintained that we should eliminate the exemption for twin-screw vessels (with operating-station control for both engines) afforded in 46 CFR 27.215(b) and require internal-communication systems on all vessels. We require these systems in the interim rule to be consistent with existing rules for inspected vessels: We saw no reason to hold uninspected towing vessels to a higher standard than inspected ones. We still see none, and have not eliminated this exemption from the final rule.

Another comment urged us to require dedicated VHF radios for the internal-communication system. It argued that relying on the same radios used for day-to-day operation of the vessel would leave the availability and operability of the radios questionable. We do not agree. On the contrary, we expect radios used daily to be more likely to be fully charged and ready for use when needed.

6. Fuel Shut-off Valves

A number of comments requested that we change the requirement for fuel shut-off valves set forth in 46 CFR 27.340(f). That requirement, derived from the interim rule, states that any fuel line subject to internal head pressure from the fuel in a tank must be provided with a remotely operable fuel shut-off valve. It was our intent to require a means to stop the main supply of fuel to the engine room during a fire, because our casualty data showed that failures of fuel lines and flexible hoses are among the leading causes of fires in engine rooms of towing vessels. Fuel leaking and spraying from gravity tanks significantly increases the magnitude of these fires and makes these fires almost impossible to extinguish without outside assistance. It was our further intent, therefore, to require a single shut-off valve located at the outlet of the day tank. The comments from the towing industry, however, pointed out that many towing vessels are configured with day tanks and multiple fuel tanks capable of pressurizing fuel lines by gravity flow, and thus would need multiple shut-off valves. They argued that there is no valid safety benefit to installing shut-off valves on all of these tanks. They reported not only that engineers often transfer fuel among tanks to adjust vessels' trim but that they transfer it manually with valves on fuel-transfer manifolds in the engine rooms. The valves open solely during transfers. The fuel ultimately enters a day tank, which then supplies the engines and generators. As written, the interim rule is interpreted by some to require a separate shut-off valve for each tank connected to the manifold. Our review of casualty reports showed that, while failure of fuel lines and fittings on diesel engines occurred in a significant number of cases, failure of piping connected directly to tanks and manifolds did not significantly contribute to the fire hazard. We conclude from the reports and the public comments that the measures required in the interim rule need not apply to all tanks. Only a fuel line directly supplying an engine (or generator) needs a remotely operable positive shut-off valve. We agree with the comments. We have therefore framed the final rule to clearly explain that we require a shut-off valve only on a line from the day tank, a storage tank, or a manifold that supplies fuel directly to an engine or generator. We expect you to install remote shut-off valves as follows:

• If you have a day tank supplying fuel, install the shut-off valve at the day tank;

• If you have a fuel-distribution manifold only (no day tank), install the shut-off valve in the single fuel-supply line after (downstream of) the manifold; or

• If you have a fuel tank directly supplying an engine or a generator, without the use of a day tank, a storage tank, or a fuel-distribution manifold, install the shut-off valve at the fuel tank.

7. Fuel Systems

One comment noted that a reader could misinterpret 46 CFR 27.340(d) to require the fitting of each fuel tank with a vent pipe connected to the highest point of the tank and venting on the weather deck. The commenter argued that this would prevent the operator of a towing vessel from leading a common vent pipe from two or more fuel tanks. This was not the intent. The individual vent pipes from several fuel tanks containing liquids in the same class of hazards may connect to a header venting on the weather deck, as long as the piping arrangements and diameters are adequate to prevent damage to the tanks from over- and under-pressurization. We have added a new sentence to this paragraph to clarify this.

Another comment insisted that subparagraphs 27.340(d)(2)(i) and 27.340(d)(2)(ii) fail to clarify which of their two standards for vent pipes applies, and suggested that we add the words “whichever is greater”. We do not agree. The two standards apply to two different situations. 46 CFR 27.340(d)(2)(i) contains the standard for a tank filled under gravity head, as from a marine fuel station with a dispensing nozzle. Section 27.340(d)(2)(ii) contains the standard for a tank filled with fuel pumped aboard (under pressure) through a connected length of fuel-transfer hose. The commenter also suggested that we adopt the rules of the American Bureau of Shipping (ABS) for sizing tank vents. We have not adopted these rules, as they exceed what we consider acceptable. Of course, an operator may choose to adopt the ABS rules or apply another higher standard.

8. Training and Drills

A number of comments requested a reduction in the frequency of required training and drills. We disagree, for the reasons that follow. Commercial vessels, if they require fire drills at all, adhere to a monthly schedule. We have required such drills monthly to familiarize crewmembers with the hazards, and with the safety equipment installed, onboard their vessels. In the towing industry, it is not uncommon to have a high rate of crew transfers. Crewmembers may be aboard vessels just for brief periods, or may rotate assignments among several vessels. They must receive training and drills in fire safety fairly often.

We received comments that indicate some in the industry may have mis-interpreted the interim rule on training and drills. Our intent was never to require such formal fire-fighting training as would be necessary for licensing. The required monthly training is for response to emergencies that might occur aboard crewmembers' particular vessels. The training should familiarize them with the safety equipment installed aboard their vessels, and with the locations of the vessels' controls for fuel and ventilation systems. It should also provide instructions on how to operate all of the installed fire-fighting equipment.

Another group of comments noted that monthly drills would be pointlessly burdensome to the industry if they entailed the discharge of portable and semi-portable fire extinguishers. This was not our intent. 46 CFR 27.355(c)(2) specifies that the drills must include “breaking out and using emergency equipment.” It aims at crewmembers” mustering the equipment and bringing it to the site of the drill. We do not require the actual release of extinguishing agents during the drills: The drill instructor can demonstrate the proper operation of the equipment without discharging the extinguishers. The drills should familiarize the crewmembers with the location of the emergency equipment and the difficulties that they may encounter in employing it.

9. Safety Orientation

One commenter made the point that not all crew transfers take place while the vessel is docked. The requirement in 46 CFR 27.355(d) to provide safety orientation to new crewmembers “before the vessel gets underway” therefore cannot be met in all cases. We agree with this comment and have framed the paragraph to require, instead, the safety orientation for new crewmembers within 24 hours.

Regulatory Evaluation

This final rule is not a significant regulatory action under section 3(f) of Executive Order 12866 and does not require an assessment of potential costs and benefits under section 6(a)(3) of that Order. It has not been reviewed by the Office of Management and Budget (OMB) under that Order.

A Regulatory Assessment under paragraph 10e of the regulatory policies and procedures of DOT is available in the docket for inspection or copying where indicated under ADDRESSES.

Unfunded Mandates Reform Act

Title II of the Unfunded Mandates Reform Act of 1995 (UMRA) [Pub L. 104-4, 109 Stat. 48] requires Federal agencies to assess the effects of certain regulatory actions on State, local, and tribal governments, and the private sector. Under sections 202 and 205 of the UMRA, the Coast Guard generally must prepare a written statement of economic and regulatory alternatives for proposed and final rules that contain Federal mandates. A “Federal mandate” is a new or added enforceable duty, imposed on any State, local, or tribal government, or the private sector. If any Federal mandate causes any of those entities to spend, in the aggregate, $100 million or more in any one year, an analysis under the UMRA is necessary. The total burden of Federal mandates imposed by this final rule will not result in such an expenditure. Therefore, sections 202 and 205 of the UMRA do not apply.

Taking of Private Property

This final rule does not effect a taking of private property or otherwise have implications for taking under Executive Order 12630, Governmental Actions and Interference with Constitutionally Protected Property Rights.

Civil Justice Reform

This final rule meets applicable standards in sections 3(a) and 3(b)(2) of Executive Order 12988, Civil Justice Reform, to minimize litigation, eliminate ambiguity, and reduce burden.

Protection of Children

We have analyzed this final rule under Executive Order 13045, Protection of Children from Environmental Health Risks and Safety Risks. This rule is not an economically significant rule and does not concern an environmental risk to health or risk to safety that may disproportionately affect children.

Small Entities

Under the Regulatory Flexibility Act [5 U.S.C. 601 et seq.], the Coast Guard considers the economic impact on small entities of each rule for which a general notice of proposed rulemaking is required. “Small Entities” include small businesses, not-for-profit organizations that are independently owned and operated and are not dominant in their fields, and governmental jurisdictions with populations of less than 50,000.

An assessment of this final rule's impacts on small entities appears in the regulatory assessment. It is available in the docket for inspection or copying where indicated under ADDRESSES.

Assistance for Small Entities

Under section 213(a) of the Small Business Regulatory Enforcement Fairness Act of 1996 (Pub. L. 104-121), the Coast Guard wants to assist small entities in understanding this final rule so that they can better evaluate its effects on them. If your small business or organization is affected by this rule and you have questions concerning its provisions or options for compliance, please call Mr. Randall Eberly, telephone 202-267-1861.

The Small Business and Agriculture Regulatory Enforcement Ombudsman and 10 Regional Fairness Boards were established to receive comments from small businesses about enforcement by Federal agencies. The Ombudsman will annually evaluate the enforcement activities and rate each agency's responsiveness to small business. If you wish to comment on enforcement by the Coast Guard, call 1-888-REG-FAIR (1-888-734-3247).

Collection of Information

This final rule does not provide for a collection of information under the Paperwork Reduction Act of 1995 [44 U.S.C. 3501 et seq.]. It does require standard wording to appear on each general alarm bell and flashing red light. This wording is to inform crewmembers that when the general alarm bell sounds, or the red light flashes, they should proceed to their assigned stations. This labeling is exempt from the guidelines of OMB for collection and posting of information since it furnishes exact wording.

Federalism

We analyzed this final rule under Executive Order 13132, Federalism. It is well-settled that States are precluded from regulating in the categories reserved for regulation by the Coast Guard. [United States v. Locke, 120 S. Ct. 1135 (March 6, 2000).] It is also well-settled that, in the case of uninspected towing vessels, if the Coast Guard promulgates rules dealing with design, construction, equipment, or operation, State regulation in those areas is preempted. [Kelly v. Washington, 302 U.S. 1 (1937); Ray v. Atlantic Richfield Co., 435 U.S. 151 (1979).] The statutory authorities under which we promulgate this rule mandate our action for inspected towing vessels and for any towing vessels towing non-self-propelled tank vessels [46 U.S.C. 3306(a)(3) and 4102(f)(2)], and give us discretionary authority for all other towing vessels [46 U.S.C. 4102(f)(1)]. In any event, the preemptive impact of the Coast Guard's action in this rulemaking is the same. This entire rule falls into the previously-mentioned categories of rules. Because States are precluded from regulating within these categories, preemption is not an issue under Executive Order 13132. Accordingly, the Coast Guard regards the Federalism implications of this rule as minimal.

Environment

The Coast Guard considered the environmental impact of this final rule and concluded that under Figure 2-1, paragraphs (34)(c) and (d) of Commandant Instruction M16475.1C, this rule is categorically excluded from further environmental documentation. A “Determination of Categorical Exclusion” is available in the docket for inspection or copying where indicated under ADDRESSES.

List of Subjects in 46 CFR Part 27

Fire prevention, Marine safety, Reporting and recordkeeping requirements, Vessels.

For the reasons discussed in the preamble, the Coast Guard adopts the interim rule published on October 19, 1999 (64 FR 56257) as final with the following changes:

PART 27—TOWING VESSELS

1. The citation of authority for part 27 continues to read as follows:

Authority: 46 U.S.C. 3306, 4102 (as amended by Pub. L. 104-324, 110 Stat. 3947); 49 CFR 1.46.

2. Revise § 27.210 to read as follows:

§ 27.210 What are the requirements for fire detection on an existing towing vessel?

By October 8, 2001, there must be a fire-detection system installed on your vessel to detect engine-room fires. It may be a new system, an existing fire-detection system, or an existing engine-room-monitoring system (with fire-detection capability), if it is operable and complies with this section. You must ensure that—

(a) Each detector, each control panel, and each fire alarm are approved under 46 CFR subpart 161.002 or listed by an independent testing laboratory; except that, if you use an existing engine-room-monitoring system (with fire-detection capability), each detector must be listed by an independent testing laboratory;

(b) The system is installed, tested, and maintained in line with the manufacturer's design manual;

(c) The system is arranged and installed so a fire in the engine room automatically sets off alarms on a control panel at the operating station;

(d) The control panel includes—

(1) A power-available light;

(2) An audible alarm to notify crew at the operating station of fire and visible alarms to identify the zone or zones of origin of the fire;

(3) A means to silence audible alarms while maintaining indication by visible alarm;

(4) A circuit-fault detector test-switch; and

(5) Labels for all switches and indicator lights, indicating their functions;

(e) The system draws power from two sources, switchover from the primary power source to the secondary source being either manual or automatic;

(f) The system serves no other purpose, unless it is an existing engine-room-monitoring system (with fire-detection capability); and

(g) The system is certified by a Registered Professional Engineer, or by a recognized classification society (under 46 CFR part 8), to comply with paragraphs (a) through (f) of this section.

3. Revise paragraphs (c) and (d)(2) of § 27.310 to read as follows:

§ 27.310 What are the requirements for fire detection on a new towing vessel?

* * * * *

(c) The system is arranged and installed so a fire in the engine room automatically sets off alarms on a control panel at the operating station;

* * * * *

(d) * * *

(2) An audible alarm to notify crew at the operating station of fire and visible alarms to identify the zone or zones of origin of the fire;

* * * * *

4. Revise paragraphs (d) and (f) of § 27.340 to read as follows:

§ 27.340 What are the requirements for a fuel system on a new towing vessel?

* * * * *

(d) Vent pipes for integral fuel tanks. Each integral fuel tank must meet the requirements of this paragraph as follows:

(1) Each fuel tank must have a vent that connects to the highest point of the tank, discharges on a weather deck through a bend of 180 degrees (3.14 radians), and is fitted with a 30-by-30 mesh corrosion-resistant flame screen. Vents from two or more fuel tanks may combine in a system that discharges on a weather deck.

(2) The net cross-sectional area of the vent pipe for the tank must be—

(i) Not less than 312.3 square millimeters (0.484 square inches) for any tank filled by gravity; or

(ii) Not less than that of the fill pipe for any tank filled under pressure.

* * * * *

(f) A positive shut-off valve must be fitted on any fuel line that supplies fuel directly to an engine or generator to stop the flow of fuel in the event of a break in the fuel line. The valve must be located near the source of supply (for instance, at the day tank, storage tank, or fuel-distribution manifold). Furthermore, the positive shut-off valve must be operable from a safe place outside the space in which the valve is located. Each remote station for fuel shut-off should be marked in clearly legible letters at least 25 millimeters (1 inch) high indicating the purpose of the valve and the way to operate it.

* * * * *

5. Revise paragraphs (c) and (d) of § 27.355 to read as follows:

§ 27.355 What are the requirements for instruction, drills, and safety orientations conducted on a new towing vessel?

* * * * *

(c) Participation in drills. Drills must take place on board the vessel, as if there were an actual emergency. They must include—

(1) Participation by all crewmembers;

(2) Breaking out and using, or simulating the use of, emergency equipment;

* * * * *

(d) Safety Orientation. The master or person in charge of a vessel must ensure that each crewmember who has not both participated in the drills required by paragraph (a) of this section and received the instruction required by that paragraph receives a safety orientation within 24 hours of reporting for duty.

* * * * *

Dated: August 2, 2000.
R.C. North,
Assistant Commandant for Marine Safety and Environmental Protection.

[FR Doc. 00-21888 Filed 8-23-00; 4:45 pm]

BILLING CODE 4910-15-U